DEPARTMENT OF THE INTERIOR

Bureau of Land Management

[LLOR912000-L63100000.DD0000]

Notice of Reestablishment of the Secure Rural Schools Resource Advisory Committees

AGENCY: Bureau of Land Management, Interior.

ACTION: Notice.

SUMMARY: This notice is published in accordance with Section 9(a)(2) of the Federal Advisory Committee Act of 1972. Notice is hereby given that the Secretary of the Interior (Secretary) has reestablished the Bureau of Land Management's Secure Rural Schools Resource Advisory Committees.

FOR FURTHER INFORMATION CONTACT: Allison Sandoval, Legislative Affairs and Correspondence (600), Bureau of Land Management, 1620 L Street, NW., MS-LS-401, Washington, DC 20036, telephone (202) 912-7434.

SUPPLEMENTARY INFORMATION: The purpose of the Committees is to provide recommendations to the Secretary for project funding, as required by the Secure Rural Schools and Community Self-Determination Act of 2000, Public Law 106-393, as amended by Public Law 110-343, Title VI (2008).

Certification Statement

I hereby certify that the reestablishment of the Secure Rural Schools Resource Advisory Committees is necessary and in the public interest in connection with the Secretary of the Interior's responsibilities to manage the lands, resources, and facilities administered by the Bureau of Land Management.

Dated: January 21, 2010.
Ken Salazar,
Secretary of the Interior.

[FR Doc. 2010-1624 Filed 1-26-10; 8:45 am]

BILLING CODE 4310-33-P